ENVIRONMENTAL PROTECTION AGENCY

[ER-FRL-6692-9]

Environmental Impacts Statements; Notice of Availability

Responsible Agency: Office of Federal Activities, General Information (202) 564-7167 or http://www.epa.gov/compliance/nepa/.

Weekly receipt of Environmental Impact Statements.

Filed 11/05/2007 through 11/09/2007.

Pursuant to 40 CFR 1506.9.

EIS No. 20070480, Draft EIS, AFS, UT, Pockets Resource Management Project, Proposes to Salvage Dead and Dying Spruce/Fir, Regenerate Aspen, and Manage Travel, Escalate Ranger District, Dixie National Forest, Garfield County, UT, Comment Period Ends: 12/31/2007, Contact: Georgina Lampman 435-826-5401.

EIS No. 20070481, Draft Supplement, COE, NC, PCS Phosphate Mine Continuation, New Information on Additional Alternative “L” and “M”, Proposes to Expand its Existing Open Pit Phosphate Mining Operation into a 3,412 Acre Tract, Pamlico River and South Creek, near Aurora, Beaufort County, NC, Comment Period Ends: 12/31/2007, Contact: Tom Walker 828-271-7980 Ext 222.

EIS No. 20070482, Draft EIS, FHW, UT, UT-108 Transportation Improvement Project, To Improve Local and Regional Mobility from UT-108 between UT-127 (Antelope Drive) to UT-126 (1900 West) Located in Syracuse, West Point and Clinton in Dave County, and Roy and West Haven in Weber County, UT.P>Comment Period Ends: 01/05/2008, Contact: Douglas Atkin 801-963-0182.

EIS No. 20070483, Draft Supplement, FHW, TN, Kirby Parkway Project, Construction from Macon Road to Walnut Grove Road, U.S. Army COE Section 401 and 404 Permits, Shelby County, TN, Comment Period Ends: 12/31/2007, Contact:

Laurie S. Leffler 615-781-5770.

EIS No. 20070484, Draft EIS, FHW, 00, Interstate-94, I-43, I-894, and WI-119 (Airport Spur) I-94/USH 41 Interchange to Howard Avenue, To Address Freeway System's Deteriorated Conditions, Funding and U.S. Army COE Section 404 Permit, Kenosha, Racine and Milwaukee Counties, WI and Lake County, IL, Comment Period Ends: 12/31/2007, Contact: David Scott 608-829-7522.

EIS No. 20070485, Final EIS, AFS, CA, Kirkwood Mountain Resort, Proposed 2003 Mountain Master Development Plan, Implementation, Eldorado National Forest, Amador, Alpine and EL Dorado Counties, CA, Wait Period Ends: 12/17/2007, Contact: Sue Rodman 530-622-5061.

EIS No. 20070486, Final Supplement, COE, 00, Yazoo Basin Reformulation Study, Supplement No.1 to the 1982 Yazoo Area Pump Project, Flood Control, Mississippi River and Tributaries, Yazoo Basin, MS and LA, Wait Period Ends: 01/22/2008, Contact: Marvin Cannon 601-631-5437.

EIS No. 20070487, Second Final Supplement, COE, FL, Lake Okeechobee Regulation Schedule Study, New Updated Information, Evaluation of Three New Alternatives on Operational Changes to the Current Water Control Plan, Lake Okeechobee and the Everglades Agricultural Area, Lake Okeechobee, Glades, Okeechobee Hendry, Palm Beach and Martin Counties, FL, Wait Period Ends: 12/17/2007, Contact: Yvonne L. Haberer 904-232-1701.

EIS No. 20070488, Draft EIS, DOE, 00, PROGRAMMATIC—Designation of Energy Corridors in 11 Western States, Preferred Location of Future Oil, Gas, and Hydrogen Pipelines and Electricity Transmission and Distribution Facilities on Federal Land, AZ, CA, CO, ID, MT, NV, NM, UT, WA and WY, Comment Period Ends: 02/14/2008, Contact: LaVerne Kyriss 202-586-1056.

EIS No. 20070489, Final EIS, DOE, 00, FutureGen Project, Planning, Design, Construction and Operation of a Coal Fueled Electric Power and Hydrogen Gas Production Plant, Four Alternative Sites: Mattoon, IL, Tuscola, IL, Jewett, TX, and Odessa, TX, Wait Period Ends: 12/17/2007, Contact: Mark McKoy 304-285-4426.

EIS No. 20070490, Final Supplement, COE, CO, Rueter-Hess Reservoir Expansion Project , Enlarges Reservoir to Provide Storage of Denver Basin Groundwater for Meeting Peak Municipal Water Supply, U.S. Army COE Section 404 Permit, Town of Parker, Douglas County, CO, Wait Period Ends: 12/17/2007, Contact: Rodney J. Schwartz 402-221-4143.

EIS No. 20070491, Final EIS, AFS, CO, Bull Mountain Natural Gas Pipeline, Construct, Operate and Maintain Natural Gas Pipeline, Issuance of Right-of-Way Grant and Temporary Use Area Permits, Gunnison, Delta, Mesa, Garfield Counties, CO, Wait Period Ends: 12/17/2007, Contact: Niccole Mortensen 970-874-6616.

EIS No. 20070492, Draft EIS, DHS, 00, Rio Grande Valley Sector Project, Construction, Maintenance, and Operation of Tactical Infrastructure, U.S./Mexico International Border in Southernmost Portions of Starr, Hidalgo and Cameron Counties, TX, Comment Period Ends: 12/31/2007, Contact: Gregory Giddens 202-344-2450.

EIS No. 20070493, Final EIS, AFS, ID, Sun Valley Resort (Bald Mountain) 2005 Master Plan—Phase I Project, Implementation, Special-Use-Permits, Sawtooth National Forest, Blaine County, ID, Wait Period Ends: 12/17/2007, Contact: Carol Brown 208-727-5000.

EIS No. 20070494, Legislative Final EIS, COE, LA, Mississippi River—Gulf Outlet (MRGO) Deep-Draft Navigation De-Authorization Study, Implementation, St. Bernard Parish, LA, Wait Period Ends: 12/17/2007, Contact: Sean Mickal 504-862-2319.

Amended Notices

EIS No. 20070373, Draft EIS, RUS, WY, WITHDRAWN—Dry Fork Station and Hughes Transmission Line, Construct Electric Generating Facilities, Campbell and Sheridan Counties, WY, Comment Period Ends: 10/15/2007, Contact: Richard Fristik 202-720-5093. Revision of FR Published 08/31/2007: Officially Withdrawn by the Preparing Agency.

EIS No. 20070385, Draft EIS, FHW, 00, Peace Bridge Expansion Project, Capacity Improvements to the Peace Bridge, Plazas and Connecting Roadways, U.S. Coast Guard Bridge Permit, U.S. Army COE Section 10 and 404 Permits. City of Buffalo, Erie County, NY and Town of Fort Erie, Ontario, Canada, Comment Period Ends: 11/30/2007, Contact: Amy Jackson-Grove 518-431-4131. Revision of FR Notice Published 09/14/2007: Extending Comment Period from 11/13/2007 to 11/30/2007.

EIS No. 20070469, Draft EIS, NOA, 00, Snapper Grouper Amendment 15B, Fishery Management Plan, To Analyze the Effects of Updating Management Reference Points for Golden Tilefish (Lopholatilus chamaeleonticeps); Define Allocations for Snowy Grouper (Epinephelus niveatus) and Red Porgy (Pagrus pagrus), NC, SC, FL and GA, Comment Period Ends:01/11/2008, Contact: Dr. Roy E. Crabtree 727-824-5301. Revision to FR Notice Published: 11/09/2007: Correction to Title.

Dated: November 13, 2007.
Robert W. Hargrove,
Director, NEPA Compliance Division, Office of Federal Activities.

[FR Doc. 07-5713 Filed 11-15-07; 8:45 am]

BILLING CODE 6560-50-P